DEPARTMENT OF LABOR

Employment and Training Administration

[TA-W-52,835]

Southeastern Adhesives Company Currently Known as Neptune, Inc., Lenoir, NC; Amended Notice of Revised Determination on Reopening

In accordance with section 223 of the Trade Act of 1974 (19 U.S.C. 2273) the Department of Labor issued a Notice of Revised Determination on Reopening on November 17, 2003, applicable to workers of Southeastern Adhesives Company, Lenoir, North Carolina. The notice was published in the Federal Register on November 28, 2003 (68 FR 66883).

At the request of the company, the Department reviewed the revised determination for workers of the subject firm. The workers produce adhesives for the furniture industry.

New information provided by the company shows that in April 2004 the subject firm's name changed from Southeastern Adhesives Company to Neptune, Inc. Accordingly, the Department is amending the certification to properly reflect this name change.

The intent of the Department's certification is to include all workers of Southeastern Adhesives Company, Lenoir, North Carolina, who were adversely affected by increased imports.

The amended notice applicable to TA-W-52,835 is hereby issued as follows:

All workers of Southeastern Adhesives Company, currently known as Neptune, Inc., Lenoir, North Carolina, who became totally or partially separated from employment on or after September 2, 2002, through November 17, 2005, are eligible to apply for adjustment assistance under section 223 of the Trade Act of 1974.

Signed at Washington, DC this 16th day of June 2004.
Linda G. Poole,
Certifying Officer, Division of Trade Adjustment Assistance.

[FR Doc. 04-14793 Filed 6-29-04; 8:45 am]

BILLING CODE 4510-30-P